DEPARTMENT OF TRANSPORTATION

Federal Railroad Administration

[Docket No. FRA-2019-0004-N-10]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before August 13, 2019.

ADDRESSES: Submit written comments on these ICR activities by mail to either: Mr. Robert Brogan, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-NEW” (the relevant OMB control number for the ICR is listed below) and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, Federal Railroad Administration, 1200 New Jersey Avenue SE, Washington, DC 20590 (telephone: (202) 493-6292) or Ms. Kim Toone, Information Collection Clearance Officer, Office of Information Technology, Federal Railroad Administration, 1200 New Jersey Avenue SE, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Inquiry into Blocked Highway-Rail Grade Crossings throughout the United States.

OMB Control Number: 2130-NEW.

Abstract: FRA is interested in obtaining more information regarding the frequency, location, and impacts of highway-rail grade crossings blocked by slow-moving or idling trains. Currently, there are no federal laws or regulations that specifically address how long a train may occupy a crossing, whether idling or operating at slow speeds. Some States and local municipalities have laws that vary in how long trains are permitted to occupy crossings.

There are potential safety concerns with crossings that are blocked by trains. For instance, pedestrians may crawl under or through idling trains. Also, emergency response vehicles and first responders may be significantly delayed from responding to an incident or transporting patients to a hospital. In addition, drivers may take more risks, such as driving around lowered gates at a crossing or attempting to beat a train through a crossing without gates, in order to avoid a lengthy delay if they are aware that trains routinely block a crossing for extended periods of time. There are also potential economic impacts that affect businesses, such as stores or restaurants not being accessible to a customer base for an extended period of time. Finally, highway-rail grade crossings that are blocked for extended periods of time may create societal nuisances, such as roadway congestion, late mail service and deliveries, disrupted school and work arrival and dismissal, or missed appointments.

Over a recent two-year period, from April 1, 2017 to March 31, 2019, FRA's Office of Railroad Safety received 669 email complaints about blocked crossings through FRA's “Contact Us” website. This web page is used by the general public to submit any type of comment/question to FRA's Office of Railroad Safety, not just reports of blocked crossings. FRA proposes to add new dedicated links to its existing website and its existing phone application (app) for users to report blocked crossings. This would simplify the reporting of blocked crossing information and standardize the data received about blocked crossings.

The proposed data collection would be conducted using three methods:

1. A link would be added to FRA's existing website directing a user to a web-based form to submit information about a blocked crossing to FRA. Access to this web-based form would be unrestricted and available to the general public.

2. A link would be added to the existing FRA phone app “FRA Crossing Locator App” that will direct users to an app-based form to submit information about a blocked crossing to FRA. Access to the form on the phone app would be unrestricted and available to the general public.

3. A link would be added to FRA's existing website directing law enforcement personnel to submit information about a blocked crossing to FRA. Access for law enforcement personnel would be restricted to users with a username and password and managed by FRA.

Upon accessing the form, a user would be notified that there are no federal laws or regulations that specifically address the length of time a train may occupy a highway-rail grade crossing. The user would be notified that the information submitted will not be forwarded to a railroad, State, or local agency, and is only being used for data collection purposes to determine the locations, times, and impacts of blocked crossings. The questions asked on each form will be identical for all three methods of collection.

Type of Request: Approval of a new collection of information.

Affected Public: Public individuals and law enforcement personnel.

Form(s): FRA F 6180.XXX.

Respondent Universe: General public and national law enforcement personnel.

Frequency of Submission: On occasion; one-time.

Reporting Burden:

Form | Total estimated annual responses | Average time per response | Total annual burden hours
General Public via the unrestricted form on the FRA website | 335 responses | 15 minutes | 84 hours.
General Public via the FRA Crossing Locator Phone Application | 50 responses | 15 minutes | 13 hours.
Law Enforcement Personnel via the limited access form on the FRA website | 100 responses | 15 minutes | 25 hours.
Total | 485 responses | 15 minutes | 122 hours.

Total Estimated Annual Responses: 485.

Total Estimated Annual Burden: 122 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-12572 Filed 6-13-19; 8:45 am]

BILLING CODE 4910-06-P